DEPARTMENT OF ENERGY

Federal Energy Regulatory Commission

Combined Notice of Filings #1

Take notice that the Commission received the following exempt wholesale generator filings:

Docket Numbers: EG23-238-000.

Applicants: Copperhead Solar, LLC.

Description: Copperhead Solar, LLC submits Notice of Self-Certification of Exempt Wholesale Generator Status.

Filed Date: 7/21/23.

Accession Number: 20230721-5109.

Comment Date: 5 p.m. ET 8/11/23.

Take notice that the Commission received the following electric rate filings:

Docket Numbers: ER23-1693-000.

Applicants: Lucky Corridor, LLC.

Description: Supplement to April 20, 2023 Application for Renewed Negotiated Rate Authority of Lucky Corridor, LLC.

Filed Date: 7/20/23.

Accession Number: 20230720-5123.

Comment Date: 5 p.m. ET 7/31/23.

Docket Numbers: ER23-2125-001.

Applicants: Saint Solar, LLC.

Description: Tariff Amendment: Saint Solar, LLC Amendment to the Co-Tenancy Shared Facilities Agreement to be effective 7/21/2023.

Filed Date: 7/21/23.

Accession Number: 20230721-5126.

Comment Date: 5 p.m. ET 8/11/23.

Docket Numbers: ER23-2456-000.

Applicants: Platteview Solar, LLC.

Description: Baseline eTariff Filing: Platteview Solar, LLC MBR Tariff to be effective 9/1/2023.

Filed Date: 7/21/23.

Accession Number: 20230721-5002.

Comment Date: 5 p.m. ET 8/11/23.

Docket Numbers: ER23-2457-000.

Applicants: PJM Interconnection, L.L.C.

Description: § 205(d) Rate Filing: Amendment to ISA, Service Agreement No. 6103; Queue Nos. AC1-091/092/093 et al to be effective 9/18/2023.

Filed Date: 7/21/23.

Accession Number: 20230721-5038.

Comment Date: 5 p.m. ET 8/11/23.

Docket Numbers: ER23-2458-000.

Applicants: PJM Interconnection, L.L.C.

Description: Tariff Amendment: Notice of Cancellation of ISA, SA No. 6835; Queue No. AD2-162 to be effective 6/21/2023.

Filed Date: 7/21/23.

Accession Number: 20230721-5044.

Comment Date: 5 p.m. ET 8/11/23.

Docket Numbers: ER23-2459-000.

Applicants: Alabama Power Company, Georgia Power Company, Mississippi Power Company.

Description: § 205(d) Rate Filing: Alabama Power Company submits tariff filing per 35.13(a)(2)(iii: Seminole Solar Projects (Seminole V Solar + BESS) LGIA Filing to be effective 7/10/2023.

Filed Date: 7/21/23.

Accession Number: 20230721-5087.

Comment Date: 5 p.m. ET 8/11/23.

Docket Numbers: ER23-2460-000.

Applicants: Alabama Power Company, Georgia Power Company, Mississippi Power Company.

Description: § 205(d) Rate Filing: Alabama Power Company submits tariff filing per 35.13(a)(2)(iii: Seminole Solar Projects (Seminole VI Solar + BESS) LGIA Filing to be effective 7/10/2023.

Filed Date: 7/21/23.

Accession Number: 20230721-5089.

Comment Date: 5 p.m. ET 8/11/23.

Docket Numbers: ER23-2461-000.

Applicants: Alabama Power Company, Georgia Power Company, Mississippi Power Company.

Description: § 205(d) Rate Filing: Alabama Power Company submits tariff filing per 35.13(a)(2)(iii: Seminole Solar Projects (Seminole VII Solar + BESS) LGIA Filing to be effective 7/10/2023.

Filed Date: 7/21/23.

Accession Number: 20230721-5090.

Comment Date: 5 p.m. ET 8/11/23.

Docket Numbers: ER23-2462-000.

Applicants: Alabama Power Company, Georgia Power Company, Mississippi Power Company.

Description: § 205(d) Rate Filing: Alabama Power Company submits tariff filing per 35.13(a)(2)(iii: Seminole Solar Projects (Seminole VIII Solar + BESS) LGIA Filing to be effective 7/10/2023.

Filed Date: 7/21/23.

Accession Number: 20230721-5091.

Comment Date: 5 p.m. ET 8/11/23.

Docket Numbers: ER23-2463-000.

Applicants: Idaho Power Company.

Description: § 205(d) Rate Filing: IPC/PAC JOOA Agreement—Changes to RS 158 to be effective 12/31/9998.

Filed Date: 7/21/23.

Accession Number: 20230721-5101.

Comment Date: 5 p.m. ET 8/11/23.

Docket Numbers: ER23-2464-000.

Applicants: California Independent System Operator Corporation.

Description: § 205(d) Rate Filing: 2023-07-21 Competitive Solicitation Deposit and Cap Amendment to be effective 9/20/2023.

Filed Date: 7/21/23.

Accession Number: 20230721-5113.

Comment Date: 5 p.m. ET 8/11/23.

Docket Numbers: ER23-2465-000.

Applicants: PJM Interconnection, L.L.C.

Description: § 205(d) Rate Filing: Ministerial Clean-Up, Tariff, Attachment DD, Section 5.14 to be effective 6/23/2023.

Filed Date: 7/21/23.

Accession Number: 20230721-5118.

Comment Date: 5 p.m. ET 8/11/23.

Docket Numbers: ER23-2466-000.

Applicants: PJM Interconnection, L.L.C.

Description: § 205(d) Rate Filing: Amend ISA/CSA, SA 4492/4494, Queue No. AA2-060; Cancel ISA/CSA, SA 4501/4502 to be effective 7/31/2023.

Filed Date: 7/21/23.

Accession Number: 20230721-5124.

Comment Date: 5 p.m. ET 8/11/23.

Docket Numbers: ER23-2467-000.

Applicants: Saint Energy Storage II, LLC.

Description: Baseline eTariff Filing: Saint Energy Storage II, LLC Certificate of Concurrence to the Co-Tenancy SFA to be effective 7/21/2023.

Filed Date: 7/21/23.

Accession Number: 20230721-5127.

Comment Date: 5 p.m. ET 8/11/23.

Docket Numbers: ER23-2468-000.

Applicants: Storey Energy Center, LLC.

Description: Baseline eTariff Filing: Storey Energy Center, LLC Certificate of Concurrence to the Co-Tenancy SFA to be effective 7/21/2023.

Filed Date: 7/21/23.

Accession Number: 20230721-5129.

Comment Date: 5 p.m. ET 8/11/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 21, 2023.
Debbie-Anne A. Reese,
Deputy Secretary.

[FR Doc. 2023-15958 Filed 7-27-23; 8:45 am]

BILLING CODE 6717-01-P